DEPARTMENT OF HEALTH AND HUMAN SERVICES

Health Resources and Services Administration

Advisory Commission on Childhood Vaccines (ACCV); Meeting

In accordance with section 10(a) (2) of the Federal Advisory Committee Act (Pub. L. 92-463), announcement is made of the following National Advisory body scheduled to meet during the month of June.

Name: Advisory Commission on Childhood Vaccines (ACCV).

Date and Time: June 6, 2002; 9 a.m.-3 p.m.

Place: Audio Conference Call and Parklawn Building, Conference Rooms D & E, 5600 Fishers Lane, Rockville, Maryland 20857.

The full ACCV will meet on Thursday, June 6, from 9 a.m. to 3 p.m. The public can join the meeting in person at the address listed above or by audio conference call by dialing 1-888-889-1954 on June 6 and providing the following information:

Leader's Name: Thomas E. Balbier, Jr.

Password: ACCV.

The agenda items for June 6 will include, but not limited to: A presentation of recommendations from the ACCV Workgroup on Legislative Proposals, a presentation on the Institute of Medicine's Report entitled “Possible Association Between Hepatitis B Vaccine and Neurological Disorders,” and updates from the Division of Vaccine Injury Compensation, the Department of Justice, and the National Vaccine Program Office.

Persons interested in providing an oral presentation should submit a written request, along with a copy of their presentation to: Ms. Cheryl Lee, Principal Staff Liaison, Division of Vaccine Injury Compensation, Office of Special Programs, Health Resources and Services Administration, Room 8A-46, 5600 Fishers Lane, Rockville, MD 20857 or by e-mail at clee@hrsa.gov. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may sign-up in the Parklawn Conference Room D & E on June 6. These persons will be allocated time as time permits.

Anyone requiring information regarding the ACCV should contact Ms. Cheryl Lee, Principal Staff Liaison, Division of Vaccine Injury Compensation, Office of Special Programs, Health Resources and Services Administration, Room 8A-46, 5600 Fishers Lane, Rockville, Maryland 20857, telephone (301) 443-2124 or e-mail: clee@hrsa.gov.

Agenda items are subject to change as priorities dictate.

Dated: April 10, 2002.
Jane M. Harrison,
Director, Division of Policy Review and Coordination.

[FR Doc. 02-9530 Filed 4-18-02; 8:45 am]

BILLING CODE 4165-15-P